DEPARTMENT OF COMMERCE

Foreign-Trade Zones Board

[B-4-2025]

Foreign-Trade Zone (FTZ) 18, Notification of Proposed Production Activity; Halo Industries, Inc.; (Semiconductor Wafers); Santa Clara, California

The City of San Jose Office of Economic Development, grantee of FTZ 18, submitted a notification of proposed production activity to the FTZ Board (the Board) on behalf of Halo Industries, Inc. (Halo) for Halo's facility in Santa Clara, California within FTZ 18. The notification conforming to the requirements of the Board's regulations (15 CFR 400.22) was received on January 28, 2025.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished products include: fully-finished and production-ready semiconductor wafers (duty-free).

The proposed foreign-status materials/components include: crude silicon carbide ingots and unfinished or partially processed semiconductor wafers (duty-free). The request indicates that certain materials/components are subject to duties under section 301 of the Trade Act of 1974 (section 301), depending on the country of origin. The applicable section 301 decisions require subject merchandise to be admitted to FTZs in privileged foreign status (19 CFR 146.41).

Public comment is invited from interested parties. Submissions shall be addressed to the Board's Executive Secretary and sent to: ftz@trade.gov. The closing period for their receipt is March 19, 2025.

A copy of the notification will be available for public inspection in the “Online FTZ Information System” section of the Board's website.

For further information, contact Kolade Osho at Kolade.Osho@trade.gov.

Dated: February 4, 2025.
Elizabeth Whiteman,
Executive Secretary.

[FR Doc. 2025-02346 Filed 2-6-25; 8:45 am]

BILLING CODE 3510-DS-P